DEPARTMENT OF COMMERCE

15 CFR Part 7

[Docket No. 211115-0230]

RIN 0605-AA62

Securing the Information and Communications Technology and Services Supply Chain; Connected Software Applications

AGENCY: U.S. Department of Commerce.

ACTION: Notice of proposed rulemaking; extension of comment period.

SUMMARY: The Department of Commerce is extending the comment period for the proposed rule entitled, “Securing the Information and Communications Technology and Services Supply Chain; Connected Software Applications,” that was published in the Federal Register on November 26, 2021. The proposed rule's comment period, which would have ended on December 27, 2021, is extended until January 11, 2022.

DATES: The comment period for the proposed rule that published at 86 FR 67379 on November 26, 2021, is extended. Comments to this proposed rule must be received on or before January 11, 2022.

ADDRESSES: All comments must be submitted by one of the following methods:

• By the Federal eRulemaking Portal: https://www.regulations.gov at docket number DOC-2021-0005.

• By email directly to: ICTsupplychain@doc.gov. Include “RIN 0605-AA62” in the subject line.

• Instructions: Comments sent by any other method, to any other address or individual, or received after the end of the comment period, may not be considered. For those seeking to submit confidential business information (CBI), please clearly mark such submissions as CBI and submit by email, as instructed above. Each CBI submission must also contain a summary of the CBI, clearly marked as public, in sufficient detail to permit a reasonable understanding of the substance of the information for public consumption. Such summary information will be posted on regulations.gov.

FOR FURTHER INFORMATION CONTACT: Joseph Bartels, U.S. Department of Commerce, telephone: (202) 482-0224. For media inquiries: Robyn Patterson, Deputy Director of Public Affairs and Press Secretary, U.S. Department of Commerce, telephone: (202) 482-4883, email: PublicAffairs@doc.gov.

SUPPLEMENTARY INFORMATION: On November 26, 2021, the Department of Commerce (Department) published a proposed rule, “Securing the Information and Communications Technology and Services Supply Chain; Connected Software Applications,” (Connected Software Applications Rule) to implement provisions of Executive Order 14034, “Protecting Americans' Sensitive Data from Foreign Adversaries,” 86 FR 31423 (June 11, 2021). Commenters have noted that the original comment deadline of December 27, 2021, may constrain those seeking to comment on the rule and have asked that the comment date be extended. The Department agrees and will extend the comment period for this proposed rule to January 11, 2022.

Trisha Anderson,
Deputy Assistant Secretary for Intelligence and Security, U.S. Department of Commerce.

[FR Doc. 2021-27730 Filed 12-22-21; 8:45 am]

BILLING CODE 3510-20-P